DEPARTMENT OF ENERGY

Federal Energy Regulatory Commission

[Docket No. RR06-1-000]

North American Electric Reliability Council and North American Electric Reliability Corporation; Notice Denying Requests for Extension of Comment Period

April 28, 2006.

On April 24, 2006 the Florida Reliability Coordinating Council (FRCC) and the ISO/RTO Council (IRC) filed motions to intervene and requests for extension to comment period until May 15, 2006. Also, on April 27, 2006 the Western Electricity Coordinating Council (WECC) filed a motion to intervene and request for ten day extension to comment period until May 14, 2006.

Upon consideration, notice is hereby given that FRCC, IRC, and WECC's requests for extension of comment period is denied.

Magalie R. Salas,
Secretary.

[FR Doc. E6-6853 Filed 5-4-06; 8:45 am]

BILLING CODE 6717-01-P